DEPARTMENT OF HOUSING AND URBAN DEVELOPMENT

[Docket No. FR-5843-N-11]

Privacy Act of 1974; Systems of Records—Republication of HUD's Routine Use Inventory Notice

AGENCY: Office of Administration, HUD.

ACTION: Routine Use Inventory republication.

SUMMARY: Pursuant to the Privacy Act of 1974 (5 U.S.C. 552a), notice is hereby given that the Department of Housing and Urban Development proposes to update and combine into one notice its Routine Use Inventory notice published in the Federal Register on July 17, 2012 at 72 FR 52572. The subsequent revisions will: (1) Implement substantive revisions for “two” of the original routine use statements, to provide greater clarity of what is to be expected by the disclosure requirements; (2) encompass editorial updates to the original formatted routine use statements to ensure that these statements are up-to-date and constructed in a format that is easier to understand and use; and (3) assign a specific “category” to each routine use condition to allow each condition to be sorted and referenced by a specific heading relevant to its disclosure purpose. This notice proposal supersedes and retires the Department's Routine Use Inventory published in the Federal Register on July 17, 2012, and supplements prior instances translated by former systems of records.

DATES: Effective date: The substantive changes being made to this proposal shall become effective February 1, 2016, unless comments are received on or before that date that would result in a contrary determination.

All other changes shall be effective immediately without further notice, upon publication of this notice in the Federal Register.

Comments Due Date: February 1, 2016.

ADDRESSES: Interested persons are invited to submit comments regarding the amended routine use statements or notice update to the Rules Docket Clerk, Office of General Counsel, Department of Housing and Urban Development, 451 Seventh Street SW., Room 10276, Washington, DC 20410-0500. Communications should refer to the above docket number and title. Faxed comments are not acceptable. A copy of each communication submitted will be available for public inspection and copying between 8 a.m. and 5 p.m. weekdays at the above address.

FOR FURTHER INFORMATION CONTACT: Frieda B. Edwards, Acting Chief Privacy Officer, 451 Seventh Street SW., Room 10139, Washington, DC 20410, telephone number 202-402-4254 (this is not a toll-free number). Individuals who are hearing- and speech-impaired may access this number via TTY by calling the Federal Relay Service telephone number at 800-877-8339 (this is a toll-free number).

SUPPLEMENTARY INFORMATION: The Department's Routine Use Inventory describes disclosure requirements commonly used by more than one of the Department's systems of records. This amendment modifies routine uses (10) and (14), under the original notice. Routine use (10) stated that records could be disclosed “To other Federal agencies or non-Federal entities, including but not limited to, state and local government entities with whom HUD has a contract, service agreement, grant, cooperative agreement, or computer matching agreement to assist such agencies with preventing and detecting improper payments, or fraud, or abuse in major programs administered by the Federal Government, or abuse by individuals in their operations and programs, but only to the extent that the information is necessary and relevant to preventing improper payments for services rendered under a particular Federal or non-federal benefits programs of HUD or any of their components to verify pre-award and pre-payment requirements prior to the release of Federal funds.” Routine use (14) stated that records could be disclosed “To a court, magistrate, administrative tribunal in the course of presenting evidence, including disclosures to opposing counsel or witnesses in the course of civil discovery, litigation, mediation, or settlement negotiations or in connection with criminal law proceedings or in response to a subpoena or to a prosecution request when such records to be released are specifically approved by a court provided order.” Subsequently, these routine use conditions precisely specified that records could only be disclosed for purposes relevant to a HUD specific program, or to a specific set of individuals or entities, limiting the Department's ability to respond to and share its records as warranted. Accordingly, this notice corrects these misrepresentations and amends the routine use conditions under the original publication. The amended routine use conditions appear under this revised notice proposal at heading (6) entitled “Prevention of Fraud, Waste, and Abuse Disclosure Routine Use” and heading (11) entitled, “Disclosures for Law Enforcement Investigations Routine Uses.” Further, the Department implements minor editorial changes to simplify and implement administrative changes needed to keep published information in an up-to-date format that is easier to understand and use.

Title 5 U.S.C. 552a, as amended (e)(r) and (11) requires that the public be afforded a 30-day period in which to comment on any use of information by this notice and requires published notice of the existence and characters of the systems of records impacted by this change. The new system report, as required by 5 U.S.C. 552a(r) of the Privacy Act, was submitted to the United States Senate Committee on Homeland Security and Governmental Affairs, the House Committee on Oversight and Government Reform of the House of Representatives, and the Office of Management and Budget (OMB) pursuant to paragraph 4c of Appendix I to OMB Circular No. A-130, Federal Agency Responsibilities for Maintaining Records about Individuals, dated June 25, 1993 (58 FR 36075, July 2, 1993). The Department permits disclosure(s) from its systems of records to be made from its systems of records to such agencies, entities, and persons in the following instances, when authorized by statute, to assist in connection with its mission. The existence and characters of the HUD's Privacy Act systems of records are available for review on the Department's privacy Web site at http://www.hud.gov/offices/cio/privacy/pia/fednotice.cfm and are listed below by title.

HUD Systems of Records, by Title, That Contain Personally Identifiable Information (PII)

• Government National Mortgage Association Registry of Foreclosure Attorneys

• Mortgage-Backed Securities Unclaimed Funds System

• Master Subservicer System

• Enterprise-Wide Operational Data Store

• HUD Central Accounting and Program System

• Personal Services Cost Reporting Subsystem

• Financial Data Mart

• Line of Credit Control System

• moveLINQS

• Home Equity Reverse Mortgage Information Technology

• HUD Integrated Acquisition Management System

• Equal Employment Management Information System

• Relocation Files

• Office of General Counsel Electronic Discovery Management System

• HUD Enforcement Management System

• Property Improvement and Manufactured [Mobile] Home Loan-Default

• Real Estate Management/Integrated Real Estate Management System

• Single Family Construction Complaints Files

• Architects and Engineers

• Property Disposition Files

• Consumer Complaint Handling System

• Telephone Numbers of HUD Officials

• Claims Collection Records

• Housing Compliance Files

• Single Family Computerized Homes Underwriting Management System

• Single Family Section 518 Files [Constructed complaints]

• Tenant Housing Assistance and Contract Verification Data

• Property Management Records

• Congregate Housing Services Program Data Files

• Single Family Insurance System

• Application Submission and Processing System

• Single Family Acquired Asset Management System

• Single Family Neighborhood Watch Early Warning System

• Identity Management System

• Asset Disposition and Management System

• Lender Electronic Assessment Portal (LEAP)

• Single Family Housing Enterprise Data Warehouse

• Fee Inspectors and Appraisers and Mortgage Credit Examiners

• Loan Application Management System

• OIG Giglio Information Files

• Independent Auditor Monitoring Files

• Auto Audit

• Hotline Information Subsystem

• Investigative Files Subsystem

• Training Information System (TRAI)

• Personnel Travel System

• Auto Investigation and Case Management Information Subsystem

• Accidents, Employees and/or Government Vehicles

• Veterans Homelessness Preventive Demonstration Evaluation Data Files System

• Real Estate Settlement Cost Research Files

• Section 8 Program Research Data Files

• Housing Counseling Research Data Files

• Training Announcement, Nomination, and Confirmation System

• Personal Security Files

• Grievance Records

• Pay and Leave Records of Employees

• Previous Participation Review System and Active Partners Performance System Previous Participation Files

• Single Family Insurance CLAIMS Subsystem

• Single Family Mortgage Notes Recovery Technology System

• Housing Counseling System/Client Activity Reporting System

• Debt Collection Asset Management

• Distributive Shares and Refund System

• Ideas Program Case Files

• Intergovernmental Personnel Act Assignment Records

• Single Family Mortgage Notes Recovery Technology System

• Nonprofit Data Management System (NPDMS)

• Grants Interface Management System

• Development Application Processing System

• Single Family Default Monitoring System

• Pay and Leave Records of Employees

• Relocation Assistance Files

• Parking Permit Application Files

• Telephone Numbers of HUD Officials

• Computerized Homes Underwriting Management System

• Employee Counseling and Occupational Health Records

• HUD Government Motor Vehicle Operators Records

• HUD Employee Locator Files

• Government Property on Personal Charge Files

• Executive Emergency Cascade Alerting System

• Priority Consideration/Special Reassignment Files

• Long Distance Telephone Call Detail System

• Security Clearance Information System

• Correspondence Tracking System

Accordingly, the Department's Routine Use Inventory includes routine use statements implemented at the Department level for instances that may be utilized by more than one of the Department's systems of records referenced in the aforementioned list. In addition, the text of many of these routine uses model best practices that have already been adopted by several agencies, including the Department of Justice.

In addition to the disclosures generally permitted under 5 U.S.C. 552a(b), and the routine uses specifically described in each system of records notice, information in the systems of records maintained by the Department may be disclosed pursuant to 5 U.S.C. 552a(b)(3) as described below under Appendix I, provided that no routine use specified herein shall be construed to limit or waive any other routine use or exemption specified in the text of the individual system of records notice.

Further, pursuant to 5 U.S.C. 552a(k)(2), records in the systems of records, referenced by the above titles, and any others that reflect records designated as exempt from the requirements of subsections (c)(3); (d); (e)(1); (e)(4)(G), (H), and (I); and/or (f) of 5 U.S.C. 552a under a promulgated rule, or those that are restricted from release by statutory or regulatory requirements, are prohibited from disclosure (which shall apply only if those exemptions have been established in the records system notice for the particular system).

Authority: 5 U.S.C. 552a.

Dated: December 15, 2015.
Patricia A. Hoban-Moore,
Senior Agency Official for Privacy.

Appendix I—Notice No.: ADMIN/AHFDC.01

HUD's Routine Use Inventory Notice

Identifies authorized disclosures applicable to one or more of the Department's Privacy Act system of records notices. The Privacy Act allows HUD to disclose records from its systems of records, from the following headings (1)−(13), to appropriate agencies, entities, and persons, when the records being disclosed are compatible with the purpose for which the system was developed. The routine use statements specified in this notice shall not be used to construe, limit, or waive any other routine use condition or exemption specified in the text of an individual system of records, and may overlap in some cases. The routine use statements and their conditions for disclosure are categorized below.

(1) General Service Administration Information Disclosure Routine Use:

To the National Archives and Records Administration (NARA) and the General Services Administration (GSA) for records having sufficient historical or other value to warrant its continued preservation by the United States Government, or for inspection under authority of Title 44, Chapter 29, of the United States Code.

(2) Congressional Inquiries Disclosure Routine Use:

To a congressional office from the record of an individual, in response to an inquiry from the congressional office made at the request of that individual.

(3) Health and Safety Prevention Disclosure Routine Use:

To appropriate Federal, State, and local governments, or persons, pursuant to a showing of compelling circumstances affecting the health or safety or vital interest of an individual or data subject, including assisting such agencies or organizations in preventing the exposure to or transmission of a communicable or quarantinable disease, or to combat other significant public health threats, if upon such disclosure appropriate notice was transmitted to the last known address of such individual to identify the health threat or risk.

(4) Consumer Reporting Agency Disclosure Routine Use:

To a consumer reporting agency, when trying to collect a claim owed on behalf of the Government, in accordance with 31 U.S.C. 3711(e).

(5) Computer Matching Program Disclosure Routine Use:

To Federal, State, and local agencies, their employees, and agents for the purpose of conducting computer matching programs as regulated by the Privacy Act of 1974, as amended (5 U.S.C. 552a).

(6) Prevention of Fraud, Waste, and Abuse Disclosure Routine Use:

To Federal agencies, non-Federal entities, their employees, and agents (including contractors, their agents or employees; employees or contractors of the agents or designated agents); or contractors, their employees or agents with whom HUD has a contract, service agreement, grant, cooperative agreement, or computer matching agreement for the purpose of: (1) Detection, prevention, and recovery of improper payments; (2) detection and prevention of fraud, waste, and abuse in major Federal programs administered by a Federal agency or non-Federal entity; (3) detection of fraud, waste, and abuse by individuals in their operations and programs, but only to the extent that the information shared is necessary and relevant to verify pre-award and prepayment requirements prior to the release of Federal funds, prevent and recover improper payments for services rendered under programs of HUD or of those Federal agencies and non-Federal entities to which HUD provides information under this routine use.

(7) Research and Statistical Analysis Disclosure Routine Uses:

(a) To contractors, grantees, experts, consultants, Federal agencies, and non-Federal entities, including, but not limited to, State and local governments and other research institutions or their parties, and entities and their agents with whom HUD has a contract, service agreement, grant, or cooperative agreement, when necessary to accomplish an agency function, related to a system of records, for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

(b) To a recipient who has provided the agency with advance, adequate written assurance that the record provided from the system of records will be used solely for statistical research or reporting purposes. Records under this condition will be disclosed or transferred in a form that does not identify an individual.

(8) Information Sharing Environment Disclosure Routine Uses:

To contractors, grantees, experts, consultants and their agents, or others performing or working under a contract, service, grant, or cooperative agreement with HUD, when necessary to accomplish an agency function related to a system of records. Disclosure requirements are limited to only those data elements considered relevant to accomplishing an agency function. Individuals provided information under these routine use conditions are subject to Privacy Act requirements and disclosure limitations imposed on the Department.

(9) Data Testing for Technology Implementation Disclosure Routine Use:

To contractors, experts and consultants with whom HUD has a contract, service agreement, or other assignment of the Department, when necessary to utilize relevant data for the purpose of testing new technology and systems designed to enhance program operations and performance.

(10) Data Breach Remediation Purposes Routine Use:

To appropriate agencies, entities, and persons when:

(a) HUD suspects or has confirmed that the security or confidentiality of information in a system of records has been compromised;

(b) HUD has determined that as a result of the suspected or confirmed compromise there is a risk of harm to economic or property interests, identity theft, or fraud, or harm to the security or integrity of systems or programs (whether maintained by HUD or another agency or entity) that rely upon the compromised information; and

(c) The disclosure made to such agencies, entities, and persons is reasonably necessary to assist in connection with HUD's efforts to respond to the suspected or confirmed compromise and prevent, minimize, or remedy such harm for purposes of facilitating responses and remediation efforts in the event of a data breach.

When appropriate, HUD may disclose records compatible to one of its system of records notices during case specific circumstances, as follows: information relating to, but not in and of itself constituting, law enforcement information, as defined below, may only be disclosed upon a showing by the requester that the information is pertinent to the conduct of investigation.

(11) Disclosures for Law Enforcement Investigations Routine Uses:

(a) To appropriate Federal, State, local, tribal, or governmental agencies or multilateral governmental organizations responsible for investigating or prosecuting the violations of, or for enforcing or implementing, a statute, rule, regulation, order, or license, where HUD determines that the information would assist in the enforcement of civil or criminal laws.

(b) To third parties during the course of a law enforcement investigation, to the extent necessary to obtain information pertinent to the investigation, provided the disclosure of such information is appropriate to the proper performance of the official duties of the officer making the disclosure.

(12) Court or Law Enforcement Proceedings Disclosure Routine Uses:

(a) To a court, magistrate, administrative tribunal, or arbitrator in the course of presenting evidence, including disclosures to opposing counsel or witnesses in the course of civil discovery, litigation, mediation, or settlement negotiations; or in connection with criminal law proceedings; or in response to a subpoena or to a prosecution request when such records to be released are specifically approved by a court provided order.

(b) To appropriate Federal, State, local, tribal, or governmental agencies or multilateral governmental organizations responsible for investigating or prosecuting the violations of, or for enforcing or implementing, a statute, rule, regulation, order, or license, where HUD determines that the information would assist in the enforcement of civil or criminal laws.

(c) To third parties during the course of a law enforcement investigation to the extent necessary to obtain information pertinent to the investigation, provided disclosure is appropriate to the proper performance of the official duties of the officer making the disclosure.

(d) To another agency or to an instrumentality of any governmental jurisdiction within or under the control of the United States for a civil or criminal law enforcement activity if the activity is authorized by law, and if the head of the agency or instrumentality has made a written request to the agency that maintains the record, specifying the particular portion desired and the law enforcement activity for which the record is sought.

(13) Department of Justice for Litigation Disclosure Routine Use:

To the Department of Justice (DOJ) when seeking legal advice for a HUD initiative or in response to DOJ's request for the information, after either HUD or DOJ determine that such information is relevant to DOJ's representatives of the United States or any other components in legal proceedings before a court or adjudicative body, provided that, in each case, the agency also determines prior to disclosure that disclosure of the records to DOJ is a use of the information contained in the records that is compatible with the purpose for which HUD collected the records. HUD on its own may disclose records in this system of records in legal proceedings before a court or administrative body after determining that the disclosure of the records to the court or administrative body is a use of the information contained in the records that is compatible with the purpose for which HUD collected the records.

[FR Doc. 2015-32964 Filed 12-30-15; 8:45 am]

BILLING CODE 4210-67-P